FEDERAL COMMUNICATIONS COMMISSION

47 CFR Part 64

[WC Docket No. 17-97; FCC 20-136; FRS 52215]

Call Authentication Trust Anchor

AGENCY: Federal Communications Commission.

ACTION: Final rule; announcement of effective date.

SUMMARY: In this document, the Commission announces the effective date of an information collection associated with a rule contained in the Commission's Call Authentication Trust Anchor, Second Report and Order (Order). This document is consistent with the Commission's Call Authentication Trust Anchor, Second Report and Order (Order) which stated that the Commission would publish a document in the Federal Register announcing the effective date of that rule.

DATES: The amendment to 47 CFR 64.6306(e) (instruction 11), published November 17, 2020 (85 FR 73360), and delayed indefinitely, is effective October 20, 2021. This final rule is effective October 20, 2021.

FOR FURTHER INFORMATION CONTACT: For further information, please contact Alexander Hobbs, Competition Policy Division, Wireline Competition Bureau at (202) 418-7433 or by email at Alexander.Hobbs@fcc.gov.

SUPPLEMENTARY INFORMATION: On June 4, 2021, the Commission announced OMB approval of § 64.6306(e) in a Federal Register publication, at 86 FR 29952. This document now announces the effective date of § 64.6306(e). In the Order and the text of § 64.6306(e), the Commission directed the Wireline Competition Bureau to set the compliance date for this rule. On September 3, 2021, the Bureau released a Public Notice, DA 21-1103, setting the date by which voice service providers granted an exemption from the Commission's caller ID authentication rule must file implementation verification certifications and associated supporting statements. Voice service providers must file all certifications and associated supporting statements electronically in WC Docket No. 20-68, Exemption from Caller ID Authentication Requirements, in ECFS, no later than October 4, 2021. We therefore modify the text of § 64.6306(e), previously published at 85 FR 73360, to incorporate this compliance date announced by the Bureau.

If you have any comments on the burden estimates listed below, or how the Commission can improve the collections and reduce any burdens caused thereby, please contact Nicole Ongele, Federal Communications Commission, Room 3.310, 45 L Street NE, Washington, DC 20002. Please include the OMB Control Number, 3060-1285, in your correspondence. The Commission will also accept your comments via email at PRA@fcc.gov.

To request materials in accessible formats for people with disabilities (e.g., Braille, large print, electronic files, audio format, etc.), send an email to fcc504@fcc.gov or call the Consumer & Governmental Affairs Bureau at (202) 418-0530 (voice), or (202) 418-0432 (TTY).

Synopsis

As required by the Paperwork Reduction Act of 1995 (44 U.S.C. 3507), the FCC is notifying the public that it received final OMB approval on May 13, 2021, for the information collection requirements contained in the modifications to the Commission's rules in 47 CFR part 64 and modifying the language of § 64.6306(e) to conform to the compliance date adopted by the Wireline Competition Bureau in DA 21-1103.

Under 5 CFR part 1320, an agency may not conduct or sponsor a collection of information unless it displays a current, valid OMB Control Number.

No person shall be subject to any penalty for failing to comply with a collection of information subject to the Paperwork Reduction Act that does not display a current, valid OMB Control Number. The OMB Control Number is 3060-1285.

The foregoing is required by the Paperwork Reduction Act of 1995, Public Law 104-13, October 1, 1995, and 44 U.S.C. 3507.

The total annual reporting burdens and costs for the respondents are as follows:

OMB Control Number: 3060-1285.

OMB Approval Date: May 13, 2021.

OMB Expiration Date: May 31, 2024.

Title: Compliance with the Non-IP Call Authentication Solution Rules; Robocall Mitigation Database; Certification to Verify Exemption from Caller ID Authentication Implementation Mandate.

Form Number: N/A.

Respondents: Business or other for-profit entities.

Number of Respondents and Responses: 6,535 respondents; 6,535 responses.

Estimated Time per Response: .5 hours-3 hours.

Frequency of Response: Recordkeeping requirement and on-occasion reporting requirement.

Obligation to Respond: Mandatory and required to obtain or retain benefits. The statutory authority for this information collection is contained in sections 227(b), 227(e) and 251(e) of the Communications Act of 1934.

Total Annual Burden: 15,520 hours.

Total Annual Cost: No Cost.

Nature and Extent of Confidentiality: The Commission will consider the potential confidentiality of any information submitted, particularly where public release of such information could raise security concerns (e.g., granular location information). Respondents may request materials or information submitted to the Commission or to the Administrator be withheld from public inspection under 47 CFR 0.459 of the Commission's rules.

Privacy Act Impact Assessment: No impact(s).

Needs and Uses: On October 1, 2020, the Commission released the Order, FCC 20-136, published at 85 FR 73360, November 17, 2020, adopting final rules—containing information collection requirements—designed to promote caller ID authentication technology. The rules implement the Pallone-Thune Telephone Robocall Abuse Criminal Enforcement and Deterrence Act (TRACED Act), promoting the deployment of caller ID authentication technology, and combatting the practice of illegal caller ID spoofing. In doing so, the Order adopts rules governing intermediate providers and caller ID authentication in non-IP networks, implements the exceptions and extensions established by the TRACED Act and prohibits line-item charges for caller ID authentication.

List of Subjects in 47 CFR Part 64

Common carriers.

Federal Communications Commission.
Marlene Dortch,
Secretary, Office of the Secretary.

For the reasons set forth in the preamble, the Federal Communications Commission amends part 64 of title 47 of the Code of Federal Regulations as follows:

PART 64—MISCELLANEOUS RULES RELATING TO COMMON CARRIERS

1. The authority citation for part 64 continues to read as follows:

Authority: 47 U.S.C. 151, 152, 154, 201, 202, 217, 218, 220, 222, 225, 226, 227, 227b, 228, 251(a), 251(e), 254(k), 262, 276, 403(b)(2)(B), (c), 616, 620, 1401-1473, unless otherwise noted; Pub. L. 115-141, Div. P, sec. 503, 132 Stat. 348, 1091.

2. Amend § 64.6306 by revising paragraph (e) to read as follows:

§ 64.6306 Exemption.

* * * * *

(e) Implementation verification. All voice service providers granted an exemption under paragraphs (a) and (b) of this section shall file an additional certification consistent with the requirements of paragraph (c) of this section on or before October 4, 2021 that attests to whether the voice service provider fully implemented the STIR/SHAKEN authentication framework because it completed all necessary network upgrades to its network infrastructure to enable the authentication and verification of caller identification information for all SIP calls exchanged with STIR/SHAKEN-enabled partners by June 30, 2021. The Wireline Competition Bureau, after issuing a Public Notice seeking comment on the certifications, will, not later than four months after the deadline for filing of the certifications, issue a Public Notice identifying which voice service providers achieved complete implementation of the STIR/SHAKEN authentication framework.

[FR Doc. 2021-22545 Filed 10-19-21; 8:45 am]

BILLING CODE 6712-01-P